DEPARTMENT OF TRANSPORTATION

Surface Transportation Board

[STB Finance Docket No. 34718]

Ohi-Rail Corporation—Lease and Operation Exemption—Wheeling & Lake Railway Company

Ohi-Rail Corporation (Ohi-Rail), a Class III rail carrier, has filed a verified notice of exemption under 49 CFR 1150.41 to lease and operate, pursuant to an agreement entered into with Wheeling & Lake Erie Railway Company (W&LE), W&LE's line of railroad known as the Cleveland Subdivision, Carrollton Branch, from milepost 0.0 in Canton, OH, to milepost 27.71 in Carrollton, OH, and from milepost 0.0 to milepost 3.00 on the Minerva Branch. The lease will also provide overhead interchange rights from milepost 0.44 in the Canton Yard to milepost 1.7 at Furnace Junction, with no servicing of customers between those mileposts. The total distance of rail lines to be leased and operated by Ohi-Rail is 30.71 miles.¹

¹ Ohi-Rail indicated that it will interchange traffic on this line with W&LE at the Canton Yard between milepost 0.0 and milepost 1.7.

Based on projected revenues for the Cleveland Subdivision, Carrollton Branch and the Minerva Branch, Ohi-Rail expects to remain a Class III rail carrier after consummation of the proposed transaction. It certifies that the projected annual rail revenue does not exceed $5 million.

The transaction was scheduled to be consummated shortly after June 20, 2005, but no sooner than the June 21, 2005 effective date of the exemption.

If the verified notice contains false or misleading information, the exemption is void ab initio. Petitions to revoke the exemption under 49 U.S.C. 10502(d) may be filed at any time. The filing of a petition to revoke will not automatically stay the transaction.

An original and 10 copies of all pleadings, referring to STB Finance Docket No. 34718, must be filed with the Surface Transportation Board, 1925 K Street, N.W., Washington, DC 20423-0001. In addition, a copy of each pleading must be served on Brendan Delay, 619 Linda Street, Suite 101, Rocky River, OH 44116.

Board decisions and notices are available on our Web site at http://www.stb.dot.gov.

Decided: July 1, 2005.
By the Board, David M. Konschnik, Director, Office of Proceedings.
Vernon A. Williams,
Secretary.

[FR Doc. 05-13439 Filed 7-8-05; 8:45 am]

BILLING CODE 4915-01-P